DEPARTMENT OF COMMERCE

National Oceanic and Atmospheric Administration

RIN 0648-XC913

Fisheries of the South Atlantic; South Atlantic Fishery Management Council; Public Meeting

AGENCY: National Marine Fisheries Service (NMFS), National Oceanic and Atmospheric Administration (NOAA), Commerce

ACTION: Notice of meeting of the South Atlantic Fishery Management Council's Habitat and Environmental Protection (Habitat) Advisory Panel (AP).

SUMMARY: The South Atlantic Fishery Management Council (Council) will hold a meeting of its Habitat AP in St. Petersburg, FL. The meeting is open to the public.

DATES: The meeting will be held from 8:30 a.m. until 4:30 p.m. on Tuesday, November 5, 2013 and from 8:30 a.m. until 4:30 p.m. on Wednesday, November 6, 2013.

ADDRESSES: Meeting address: The meeting will be held at the Florida Fish and Wildlife Research Institute, 100 Eighth Avenue SE., St. Petersburg, FL 33701-5020; telephone: (727) 450-6200 Ext. 104.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: The Habitat AP will work on development of the Council's Essential Fish Habitat Policy Statements and receive training on the use of the Regional Habitat and Ecosystem Mapping Atlas and other online information systems. The AP will receive an update on regional habitat and ecosystem modelling efforts and discuss necessary updates to the Council's Fishery Ecosystem Plan for 2014. The AP will provide recommendations to the Council for consideration.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: October 17, 2013.
Tracey L. Thompson,
Acting Deputy Director, Office of Sustainable Fisheries, National Marine Fisheries Service.

[FR Doc. 2013-24587 Filed 10-21-13; 8:45 am]

BILLING CODE 3510-22-P